DEPARTMENT OF HEALTH AND HUMAN SERVICES

Substance Abuse and Mental Health Services Administration

Center for Substance Abuse Prevention; Notice of Meeting

Pursuant to Public Law 92-463, notice is hereby given that the Substance Abuse and Mental Health Services Administration's (SAMHSA) Drug Testing Advisory Board (DTAB) will meet on March 8, 2010.

The meeting is open to the public and will include discussion of the Mandatory Guidelines for Federal Workplace Drug Testing Programs, including implementation of the revised Mandatory Guidelines; Federal drug testing updates from the Department of Transportation (DOT), the Department of Defense, and the Nuclear Regulatory Commission; review of significant changes in the revised Mandatory Guidelines; review of the National Laboratory Certification Program planned implementation of the revised Mandatory Guidelines; an update on the revised Federal Custody and Control Form; a review of the special proficiency testing program for initial and confirmation testing for new analytes and new cutoffs; an update on instrumented initial test facilities; an update on the DTAB working groups; and a comparison of HHS and DOT urine collection requirements.

DTAB members and invited presenters will participate in this meeting through remote internet connection. On-site attendance by the public will be limited to space available. The meeting can also be accessed by the public via teleconference. To obtain teleconference call-in numbers and access codes, to make arrangements to attend on-site, or to request special accommodations for persons with disabilities, please register at the SAMHSA Committees' Web site at https://nac.samhsa.gov/Registration/meetingsRegistration.aspx or communicate with DTAB's Program Assistant, Ms. Giselle Hersh (see contact information below).

SAMHSA would like to ensure that advisory committee meetings proceed in an orderly fashion, are conducted in a safe and secure environment, that the right of free speech is protected, and that the ability of SAMHSA Advisory Committees to accomplish their objectives is not disrupted. Therefore, the following procedures will be followed at all DTAB meetings:

• Attendees are subject to security screening, including identification (driver's license) review, metal detector screening, and inspection of briefcases, packages, etc. Each attendee will be issued a security badge that must be worn at all times while in the building.

• Any interested person who wishes to be assured of the right to make an oral presentation during the Public Comment portion of the DTAB meeting must register with Ms. Hersh before the meeting.

• Those who have not registered before the meeting will only be invited to speak at the discretion of the Chair and should submit their request to the Designated Federal Official on the day of the meeting.

• Public Comment participants who are designated to speak may be questioned only by the Chair or DTAB members.

• Audience members may not present comments or questions to DTAB members unless recognized by the Chair.

• Attendees at the meeting are asked to maintain order and not display behavior that is disruptive to the meeting (i.e., shouting from the audience, loud outbursts).

• We ask that attendees not approach the DTAB table area during the meeting without permission from the Chair or the Designated Federal Official.

• The DTAB Chair or Designated Federal Official will note on the record any disruptive behavior and will ask the person to cease the behavior or else leave the meeting room.

Substantive program information, a summary of the meeting, and a roster of DTAB members may be obtained as soon as possible after the meeting, either by accessing the SAMHSA Committee Web site, https://www.nac.samhsa.gov/DTAB/meetings.aspx, or by contacting Ms. Hersh. The transcript for the meeting will also be available on the SAMHSA Committee Web site within three weeks after the meeting.

Committee Name: Substance Abuse and Mental Health Services Administration, Drug Testing Advisory Board.

Date/Time/Type: March 8, 2010 from 10 a.m. to 4:45 p.m. EST: Open.

Place: Sugarloaf and Seneca Conference Rooms, 1 Choke Cherry Road, Rockville, Maryland 20857.

Contacts:

Ms. Giselle Hersh, Program Assistant, SAMHSA Drug Testing Advisory Board, 1 Choke Cherry Road, Room 2-1042, Rockville, Maryland 20857, Telephone: 240-276-2600, Fax: 240-276-2610, E-mail: Giselle.Hersh@samhsa.hhs.gov.

Donna M. Bush, PhD, Designated Federal Official, SAMHSA Drug Testing Advisory Board, 1 Choke Cherry Road, Room 2-1033, Rockville, Maryland 20857, Telephone: 240-276-2600, Fax: 240-276-2610.

Toian Vaughn,
Committee Management Officer, Substance Abuse and Mental Health Services Administration.

[FR Doc. 2010-3227 Filed 2-18-10; 8:45 am]

BILLING CODE 4162-20-P